AGENCY FOR INTERNATIONAL DEVELOPMENT

Notice of Meeting

Pursuant to the Federal Advisory Committee Act, notice is hereby given of a meeting of the Advisory Committee on Voluntary Foreign Aid (ACVFA).

Date: January 10, 2001 (8:45 a.m. to 12:00 p.m.).

Location: Washington Plaza Hotel, 10 Thomas Circle, NW, Washington, DC.

This meeting will feature discussion of the Committee's recommendations for U.S. policymakers on major new priorities for development and humanitarian assistance. The findings of an ACVFA-USAID study on best practices in USAID/PVO relations will also be discussed.

The meeting is free and open to the public. Persons wishing to attend the meeting can fax or e-mail their name to Kari Wickenheiser, (703) 741-0567, Kari.AMATech@juno.com.

Dated: December 5, 2000.
Noreen O'Meara,
Executive Director, Advisory Committee on Voluntary Foreign Aid (ACVFA).

[FR Doc. 00-31893 Filed 12-13-00; 8:45 am]

BILLING CODE 6116-01-M